DEPARTMENT OF LABOR

Mine Safety and Health Administration

30 CFR Part 18

RIN 1219-AB60

Conveyor Belt Combustion Toxicity and Smoke Density

AGENCY: Mine Safety and Health Administration (MSHA), Labor.

ACTION: Request for information, reopening and extension of comment period.

SUMMARY: The Mine Safety and Health Administration is reopening the rulemaking record on the request for information entitled “Conveyor Belt Combustion Toxicity and Smoke Density” published in the Federal Register on June 19, 2008 (73 FR 35057) and extending the comment period to September 8, 2008.

DATES: All comments must be received by midnight eastern daylight time on September 8, 2008.

ADDRESSES: Comments: Comments must be clearly identified with “RIN 1219-AB60” and may be sent to MSHA by any of the following methods:

(1) Federal Rulemaking Portal: http://www.regulations.gov. Follow the instructions for submitting comments.

(2) Electronic mail: zzMSHA-Comments@dol.gov. Include “RIN 1219-AB60” in the subject line of the message.

(3) Facsimile: (202) 693-9441. Include “RIN 1219-AB60” in the subject.

(4) Regular Mail: MSHA, Office of Standards, Regulations, and Variances, 1100 Wilson Blvd., Room 2350, Arlington, Virginia 22209-3939.

(5) Hand Delivery or Courier: MSHA, Office of Standards, Regulations, and Variances, 1100 Wilson Blvd., Room 2350, Arlington, Virginia 22209-3939. Sign in at the receptionist's desk on the 21st floor.

Comments can be accessed electronically at http://www.msha.gov under the “Rules and Regs” link. MSHA will post all comments on the Internet without change, including any personal information provided. Comments may also be reviewed at the Office of Standards, Regulations, and Variances, 1100 Wilson Blvd., Room 2350, Arlington, Virginia. Sign in at the receptionist's desk on the 21st floor.

MSHA maintains a listserve that enables subscribers to receive e-mail notification when rulemaking documents are published in the Federal Register. To subscribe to the listserve, go to http://www.msha.gov/subscriptions/subscribe.aspx.

FOR FURTHER INFORMATION CONTACT: Patricia W. Silvey, Director, Office of Standards, Regulations, and Variances, MSHA, 1100 Wilson Blvd., Room 2350, Arlington, Virginia 22209-3939, silvey.patricia@dol.gov (e-mail), (202) 693-9440 (voice), or (202) 693-9441 (Fax).

SUPPLEMENTARY INFORMATION:

I. Introduction

On June 19, 2008, MSHA published a Request for Information (RFI) on conveyor belt combustion toxicity and smoke density (73 FR 35057). The comment period for the RFI closed on August 18, 2008. In a separate rulemaking, MSHA published on the same day a proposed rule on flame-resistant conveyor belts, fire prevention and detection, and use of air from the belt entry (73 FR 35026). The comment period for the proposed rule closes on September 8, 2008.

II. Extension of Comment Period

MSHA is reopening the rulemaking record for the RFI to be consistent with the proposed rule on flame-resistant conveyor belt, fire prevention and detection, and use of air from the belt entry. The comment period for the RFI closes on midnight eastern daylight time September 8, 2008. MSHA will consider all comments received through September 8, 2008, including those received between August 19 and the date of this notice.

Dated: August 15, 2008.
Richard E. Stickler,
Acting Assistant Secretary for Mine Safety and Health.

[FR Doc. E8-19391 Filed 8-20-08; 8:45 am]

BILLING CODE 4510-43-P